DEPARTMENT OF COMMERCE

National Oceanic and Atmospheric Administration

RIN 0648-XB099

Fisheries of the Gulf of Mexico; Southeast Data, Assessment, and Review (SEDAR); Public Meetings

AGENCY: National Marine Fisheries Service (NMFS), National Oceanic and Atmospheric Administration (NOAA), Commerce.

ACTION: Notice of SEDAR 29 assessment webinars for Highly Migratory Species (HMS) blacktip shark (Carcharhinus limbatus).

SUMMARY: The SEDAR 29 assessment of HMS blacktip shark will consist of a workshop and series of webinars. This notice is for webinars associated with the workshop portion of the SEDAR process.

DATES: The SEDAR 29 webinars will be held between April 12th and May 24th, 2012. Please see list below for exact dates and times. The established times may be adjusted as necessary to accommodate the timely completion of discussion relevant to the assessment process. Such adjustments may result in the meeting being extended from, or completed prior to the times established by this notice.

Webinar | Date | Day | Time (central)
1 | April 12, 2012 | Thursday | 10 a.m.-1 p.m.
2 | April 26, 2012 | Thursday | 10 a.m.-1 p.m.
3 | May 24, 2012 | Thursday | 10 a.m.-1 p.m.

ADDRESSES: The meetings will be held via webinar. The webinar is open to the public. Those interested in participating should contact Julie A. Neer at SEDAR (See Contact Information Below) to request an invitation providing webinar access information.

FOR FURTHER INFORMATION CONTACT: Julie A. Neer, SEDAR Coordinator, 4055 Faber Place, Suite 201, North Charleston, SC 29405; telephone: (843) 571-4366; email: Julie.neer@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a multi-step process including: (1) Data/Assessment Workshop, and (2) a series of webinars. The product of the Data/Assessment Workshop is a report which compiles and evaluates potential datasets and recommends which datasets are appropriate for assessment analyses, and describes the fisheries, evaluates the status of the stock, estimates biological benchmarks, projects future population conditions, and recommends research and monitoring needs. Participants for SEDAR Workshops are appointed by the Gulf of Mexico, South Atlantic, and Caribbean Fishery Management Councils and NOAA Fisheries Southeast Regional Office, HMS Management Division, and Southeast Fisheries Science Center. Participants include data collectors and database managers; stock assessment scientists, biologists, and researchers; constituency representatives including fishermen, environmentalists, and NGO's; International experts; and staff of Councils, Commissions, and state and federal agencies.

SEDAR 29 Assessment webinar series:

Using datasets and initial assessment analysis recommended from the Workshop, Panelists will employ assessment models to evaluate stock status, estimate population benchmarks and management criteria, and project future conditions. Panelists will recommend the most appropriate methods and configurations for determining stock status and estimating population parameters.

Special Accommodations

These meetings are physically accessible to people with disabilities. Requests for sign language interpretation or other auxiliary aids should be directed to the Council office (see ADDRESSES) at least 10 business days prior to the meeting.

Dated: March 19, 2012.
Tracey L. Thompson,
Acting Director, Office of Sustainable Fisheries, National Marine Fisheries Service.

[FR Doc. 2012-6897 Filed 3-21-12; 8:45 am]

BILLING CODE 3510-22-P